NATIONAL AERONAUTICS AND SPACE ADMINISTRATION

[Document Number NASA-23-021; Docket Number-NASA-2023-0001]

Request for Information on Advancing Racial Equity and Support for Underserved Communities in NASA Procurements and Federal Financial Assistance

AGENCY: National Aeronautics and Space Administration (NASA).

ACTION: Request for Information (RFI); extension of comment period.

SUMMARY: The National Aeronautics and Space Administration (NASA) published a document in the Federal Register of April 11, 2023, concerning a request for information to receive input from the public on the barriers and challenges that prevent members of underserved communities from participating in NASA's procurements, grants, and cooperative agreements. The document contained a 60-day comment period. The comment period has been extended for an additional 30 days.

DATES: The comment period for the notice published April 11, 2023, at 88 FR 21725, is extended. Comments must be received by July 10, 2023.

FOR FURTHER INFORMATION CONTACT: Cheryl Robertson, 202-358-0667, or hq-op-deia@mail.nasa.gov.

Julia B. Wise,
Director, Procurement Management and Policy Division, NASA—Headquarters, Office of Procurement.

[FR Doc. 2023-12318 Filed 6-8-23; 8:45 am]

BILLING CODE 7510-13-P